CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed application entitled: Next Generation Grant Application Instructions. Copies of the proposed information collection request may be obtained by contacting the office listed below in the ADDRESSES section of this notice.

DATES: Comments on this notice must be received by August 9, 2004, to be assured of consideration.

ADDRESSES: You may submit written input to the Corporation by any of the following methods:

(1) Electronically through the Corporation's e-mail address system to Kimberly Spring at KSpring@cns.gov.

(2) By fax to 202-565-2785, Attention Ms. Kimberly Spring.

(3) By mail sent to: Corporation for National and Community Service, Department of Research and Policy Development, 8th Floor, Attn: Ms. Kimberly Spring, 1201 New York Avenue NW., Washington, DC 20525.

(4) By hand delivery or by courier to the Corporation's mailroom at Room 6010 at the mail address given in paragraph (3) above, between 9 a.m. and 4 p.m. Monday through Friday, except Federal holidays.

FOR FURTHER INFORMATION CONTACT: Kimberly Spring at (202) 606-5000, ext. 543, by e-mail at ngg@cns.gov.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility and clarity of the information to be collected; and

• Propose ways to minimize the burden of the collection of information on those who are to respond, including through the use of appropriate automated, electronic, mechanical, or other technological collection techniques or other forms of information technology, e.g., permitting electronic submissions of responses.

Background: The Corporation publishes application guidelines and notices of funding availability that include information about the funding and requirements. The application instructions provide the information, instructions, and forms that potential applicants need to complete an application to the Corporation for funding by utilizing the new eGrants system developed by the Corporation.

Current Action: The Corporation seeks public comment on the forms, the instructions for the forms, and the instructions for the narrative portion of these application instructions.

Type of Review: Revision of a currently approved collection.

Agency: Corporation for National and Community Service.

Title: Next Generation Grant Application Instructions.

OMB Number: 3045-0087.

Agency Number: None.

Affected Public: Eligible applicants for funding with the Corporation.

Total Respondents: 400.

Frequency: Annually.

Average Time Per Response: 10 hours.

Estimated Total Burden Hours: 4000.

Total Burden Cost (capital/startup): None.

Total Burden Cost (operating/maintenance): None.

Comments submitted in response to this notice will be summarized and/or included in the request for Office of Management and Budget approval of the information collection request; they will also become a matter of public record.

Dated: June 3, 2004.
Robert T. Grimm, Jr.,
Acting Director, Research and Policy Development.

[FR Doc. 04-13013 Filed 6-8-04; 8:45 am]

BILLING CODE 6050-$$-P